DEPARTMENT OF TRANSPORTATION

Federal Highway Administration

Environmental Impact Statement: Iron County, UT

AGENCY: Federal Highway Administration (FHWA), DOT.

ACTION: Notice of intent.

SUMMARY: The FHWA is issuing this notice to advise the public that an Environmental Impact Statement (EIS) will be prepared for a proposed transportation corridor in Iron County, Utah.

FOR FURTHER INFORMATION CONTACT: Gregory Punske, P.E., Project Development Engineer, FHWA, Utah Division, 2520 West 4700 South, Suite 9A, Salt Lake City, UT 84118-1847, Telephone: (801) 963-0182.

SUPPLEMENTARY INFORMATION: The FHWA in cooperation with the Utah Department of Transportation (UDOT) and Iron County will prepare an Environmental Impact Statement (EIS) for a proposed transportation corridor in Iron County between the North Kanarraville Interchange (Exit 51) at I-15 (southern terminus) and State Route (SR) 56 (northern terminus) a distance of approximately 9.7 km (6 miles).

The proposed transportation corridor is considered necessary to reduce out-of-direction travel; to improve accessibility for residents, commercial vehicles, and emergency service providers to this area of Iron County; and provide a transportation network to support planned growth and economic development in Iron County and Cedar City for the next 20 years.

Alternatives under consideration include a no-build and five build alternatives. All build alternatives consist of a new four-lane roadway on new alignment and extend northward from I-15 to SR-56. The difference between the build alternatives is where they connect to SR 56.

Letters describing the proposed action and soliciting comments will be sent to appropriate Federal, State, and local agencies and to private organizations and citizens who have previously expressed or are known to have interest in this proposal. A public meeting will be held in Cedar City in August 2001. In addition, a public hearing will be held. Public Notice will be given of the time and place of the meeting and hearing. The draft EIS will be available for public and agency review and comment prior to the public hearing.

To ensure that the full range of issues related to this proposed action are addressed and all significant issues identified, comments and suggestions are invited from all interested parties. Comments or questions concerning this proposed action and the EIS should be directed to the FHWA at the address provided above.

(Catalog of Federal Domestic Assistance Program Number 20.205, Highway Research, Planning and Construction. The regulations implementing Executive Order 12372 regarding intergovernmental consultation on Federal programs and activities apply to this program)
Issued on: July 12, 2001.
William R. Gedris,
Structural/Environmental Engineer.

[FR Doc. 01-17913 Filed 7-17-01; 8:45 am]

BILLING CODE 4910-22-M